NATIONAL CREDIT UNION ADMINISTRATION

Agency Information Collection Activities: Proposed Collection; Comment Request; Capital Planning and Stress Testing

AGENCY: National Credit Union Administration (NCUA).

ACTION: Notice and request for comment.

SUMMARY: The National Credit Union Administration (NCUA), as part of a continuing effort to reduce paperwork and respondent burden, invites the general public and other Federal agencies to comment on the following extension of a currently approved collection, as required by the Paperwork Reduction Act of 1995.

DATES: Written comments should be received on or before September 27, 2021 to be assured consideration.

ADDRESSES: Interested persons are invited to submit written comments on the information collection to Dawn Wolfgang, National Credit Union Administration, 1775 Duke Street, Suite 6032, Alexandria, Virginia 22314; email at PRAComments@NCUA.gov. Given the limited in-house staff because of the COVID-19 pandemic, email comments are preferred.

FOR FURTHER INFORMATION CONTACT: Address requests for additional information to Mackie Malaka at the address above or telephone 703-548-2279.

SUPPLEMENTARY INFORMATION:

OMB Number: 3133-0199.

Title: Capital Planning and Stress Testing, 12 CFR part 702, subpart E.

Type of Review: Extension of a currently approved collection.

Abstract: To protect the National Credit Union Share Insurance Fund (NCUSIF) and the credit union system, the largest Federally Insured Credit Unions (FICUs) must have systems and processes to monitor and maintain their capital adequacy. The rule requires covered credit unions to develop and maintain a capital plan and submit this plan to NCUA by March 31 of each year. The rule applies to all FICUs that report $10 billion or more in assets on their March 31 Call Report.

Affected Public: Private Sector: Not-for-profit institutions.

Estimated No. of Respondents: 18.

Estimated No. of Responses per Respondent: 1.

Estimated Total Annual Responses: 18.

Estimated Burden Hours per Response: 223.89.

Estimated Total Annual Burden Hours: 4,030.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Melane Conyers-Ausbrooks, Secretary of the Board, the National Credit Union Administration, on July 20, 2021.

Dated: July 22, 2021.
Dawn D. Wolfgang,
NCUA PRA Clearance Officer.

[FR Doc. 2021-15924 Filed 7-26-21; 8:45 am]

BILLING CODE 7535-01-P